DEPARTMENT OF LABOR

Employment and Training Administration

[TA-W-65,227]

Tama Manufacturing Co., Inc. Allentown, PA; Notice of Termination of Investigation

Pursuant to Section 221 of the Trade Act of 1974, as amended, an investigation was initiated on February 10, 2009 in response to a worker petition filed by UNITE HERE on behalf of workers of Tama Manufacturing Co., Inc., Allentown, Pennsylvania.

The petitioner has requested that the petition be withdrawn. Consequently, the investigation has been terminated.

Signed at Washington, DC, this 2nd day of March 2009.
Richard Church,
Certifying Officer, Division of Trade Adjustment Assistance.

[FR Doc. E9-5172 Filed 3-10-09; 8:45 am]

BILLING CODE 4510-FN-P